ENVIRONMENTAL PROTECTION AGENCY

[OAR-2005-0037, FRL-7914-8]

Agency Information Collection Activities Submission to OMB for Review and Approval; Comment Request; Recordkeeping and Periodic Reporting of the Production, Import, Recycling, Transshipment and Feedstock Use of Ozone Depleting Substances (Critical Use Exemption) (Renewal) EPA ICR Number 2179.02, OMB Control Number 2060-0564

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew and existing approved collection. This ICR describes the nature of the information collection and its estimated burden and cost.

DATES: Additional comments may be submitted on or before June 20, 2005.

ADDRESSES: Submit your comments, referencing docket ID number OAR-2005-0037, to (1) EPA online using EDOCKET (our preferred method), by email to a-and-r-Docket@epa.gov, or by mail to: Environmental Protection Agency, EPA Docket Center (EPA/DC), Air and Radiation Docket and Information Center, 1200 Pennsylvania Avene, NW., Mail Code 6102T, Washington, DC 20460 and (2) OMB at: Office of Information and Regulatory Affairs, Office of Management and Budget (OMB), Attention: Desk Officer for EPA, 725 17th Street, NW., Washington, DC 20503.

FOR FURTHER INFORMATION CONTACT: Hodayah Finman, Office of Air and Radiation (6205J), Environmental Protection Agency, 1200 Pennsylvania Avenue, NW., Washington, DC 20460; telephone number: (202) 343-9246; fax number: (202) 343-2338; E-mail address: finman.hodayah@epa.gov.

SUPPLEMENTARY INFORMATION: EPA has submitted the following ICR to OMB for review and approval according to the procedures prescribed in 5 CFR 1320.12. On August 25, 2004 (69 FR 52366), EPA sought comments on this ICR pursuant to 5 CFR 1320.8(d). EPA has addressed the comments received.

EPA has established a public docket for this ICR under Docket ID number OAR-2005-0037, which is available for public viewing at the Air and Radiation Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Air and Radiation Docket and Information Center is (202) 566-1742 . An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Title: Recordkeeping and Periodic Reporting of the Production, Import, Recycling, Transshipment and Feedstock Use of Ozone Depleting Substances (Critical Use Exemption) (Renewal)

Abstract: With this Information Collection Request (ICR), the Office of Air and Radiation (OAR) is seeking permission to require the submission of data from regulated industries to the Environmental Protection Agency and to require recordkeeping of key documents to ensure compliance with the Montreal Protocol on Substances that Deplete the Ozone Layer (Protocol) and the Clean Air Act under the critical use exemption program (CUE).

Entities applied to EPA for a critical use exemption that would allow for the continued production and import of methyl bromide after the phaseout in January 2005. EPA used the data submitted by users of methyl bromide to create a nomination of critical uses that was submitted to the Montreal Protocol's Ozone Secretariat for review by an international panel of experts. The uses authorized internationally by the Parties to the Protocol have been made available in the U.S. through a regulatory action completed by EPA on December 23, 2004. This ICR seeks to characterize the burden associated with producing, importing, distributing, and using critically exempted methyl bromide as described in the final rule at 40 CFR part 82.

A proposed rule seeking comment and a final rule implementing the deregulatory action associated with the reporting and recordkeeping requirements outlined in this document were published in the Federal Register on August 25, 2004 (69 FR 52366) and on December 23, 2004 (69 FR 76982) respectively. However, the Agency mistakenly did not have an ICR approved by OMB during the development of the rulemaking and is seeking OMB approval for the burden hours associated with the prior rulemaking this time. Although the Agency published the ICR information with the proposed rule and received and reconciled comments on the burden of the rulemaking, the appropriate paperwork had not been resubmitted to OMB for their consideration with the final rule and therefore the Agency is now seeking approval for burden associated with the CUE requirements. At the present time, an emergency ICR #2179.01, is in place to facilitate the recordkeeping and reporting requirements added to 40 CFR part 82 by the final CUE rule (69 FR 76982).

This information collection is authorized under section 604(d)(6) of the Clean Air Act Amendments of 1990, added by section 764 of the 1999 Omnibus Consolidated and Emergency Supplemental Appropriations Act (Pub. L. No. 105-277; October 21, 1998).

EPA drew upon experience implementing similar regulations among the same entities in order to derive estimates of the burden associated with the reporting and recordkeeping requirements.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 0.49 hours per response (1,371 hours divided by 2,802 responses). Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are producers, importers, distributors, and custom applicators of methyl bromide as well as users of methyl bromide who are farmers of minor vegetable crops and companies that store agricultural commodities.

Estimated Number of Respondents: 2054.

Frequency of Response: On occasion, quarterly, annually.

Estimated Total Annual Hour Burden: 1,371.

Estimated Total Annual Cost: $154,602, which includes $0 annualized capital/startup costs, $0 annual O&M costs, and $154,602 annual labor costs.

Changes in the Estimates: There is a increase of 577 hours in the total estimated burden currently identified in the OMB Inventory of Approved ICR Burdens. This increase is due to changes in the regulatory program which allows for exemptions to the phaseout of methyl bromide under certain circumstances which must be reported to EPA.

Dated: May 11, 2005.
Richard T. Westlund,
Acting Director, Collection Strategies Division.

[FR Doc. 05-10014 Filed 5-18-05; 8:45 am]

BILLING CODE 6560-50-P